DEPARTMENT OF COMMERCE

National Oceanic and Atmospheric Administration

RIN 0648-XD041

South Atlantic Fishery Management Council; Public Meetings

AGENCY: National Marine Fisheries Service (NMFS), National Oceanic and Atmospheric Administration, Commerce.

ACTION: Notice of public hearing and scoping meetings.

SUMMARY: The South Atlantic Fishery Management Council (Council) will hold a series of public hearings and scoping meetings in January. Public hearings will be held on Amendment 29 to the Snapper Grouper Fishery Management Plan (FMP) and South Atlantic Coastal Migratory Pelagic Framework Action. Public scoping will be held on Regulatory Amendment 16 to the Snapper Grouper FMP, Amendment 24 to the Coastal Migratory Pelagic FMP for the South Atlantic and Gulf of Mexico and Amendment 26 to the Coastal Migratory FMP for the South Atlantic and Gulf of Mexico. The Council will hold a separate public scoping meeting via webinar for the Generic Accountability Measure and Dolphin Allocation Amendment. See SUPPLEMENTARY INFORMATION.

Dates and Location: The series of public hearings and scoping meetings will be held January 21, 2014 through January 30, 2014. The hearings/scoping meetings will be held from 4 p.m. until 7 p.m. Council staff will present an overview of the amendments and will be available for informal discussions and to answer questions. Members of the public will have an opportunity to go on record at any time during the meeting hours to record their comments on the public hearing and scoping topics for consideration by the Council. Local Council representatives will attend the meetings and take public comment. Written comments will be accepted from January 10, 2014 until 5 p.m. on February 3, 2014. In addition, the Council will hold a separate public scoping meeting via webinar on February 3, 2014 at 6 p.m. for the Generic Accountability Measure and Dolphin Allocation Amendment. Public comment will be accepted on the Generic Amendment from January 17, 2014 until 5 p.m. on February 14, 2014. See SUPPLEMENTARY INFORMATION.

ADDRESSES: Written comments should be sent to Bob Mahood, Executive Director, South Atlantic Fishery Management Council, 4055 Faber Place Drive, Suite 201, North Charleston, SC 29405, or via email to: SGAmend29Comments@safmc.net for Amendment 29 to the Snapper Grouper FMP; SpanishMackFrameworkComments@safmc.net for the Joint Coastal Migratory Pelagics Framework Amendment for 2014; SGRegAmend16Comments@safmc.net for Regulatory Amendment 16 to the Snapper Grouper FMP; CMPAmend24Comments@safmc.net for Joint Amendment 24 to the Coastal Migratory Pelagics FMP; CMPAmend26Comments@safmc.net for Joint Amendment 26 to the Coastal Migratory Pelagics FMP; and to AMDolphinAllocAmendC@safmc.net for the Generic Accountability Measure and Dolphin Allocation Amendment.

Copies of the public hearing and scoping documents are available by contacting Kim Iverson, Public Information Officer, South Atlantic Fishery Management Council, 4055 Faber Place Drive, Suite 201, North Charleston, SC 29405; telephone: (843) 571-4366 or toll free at (866) SAFMC-10. Copies will also be available online at www.safmc.net as they become available.

FOR FURTHER INFORMATION CONTACT: Kim Iverson, South Atlantic Fishery Management Council, 4055 Faber Place Drive, Suite 201, North Charleston, SC 29405; telephone: (843) 571-4366; fax: (843) 769-4520; email address: kim.iverson@safmc.net.

SUPPLEMENTARY INFORMATION: Public hearings: Amendment 29 to the Snapper Grouper FMP includes actions that would update the Acceptable Biological Catch (ABC) Control Rule to incorporate methodology for determining the ABC of “Only Reliable Catch Stocks” (ORCS), adjust the ABCs for the affected species, and establish management measures for gray triggerfish in federal waters of the South Atlantic region. The Joint South Atlantic and Gulf of Mexico Coastal Migratory Pelagics Framework Amendment for 2014 would adjust the annual catch limits (ACLs) for both South Atlantic and Gulf of Mexico Spanish mackerel stocks.

Scoping: Regulatory Amendment 16 to the Snapper Grouper FMP includes alternatives to remove or modify the current seasonal closure for black sea bass commercial pots. Joint Amendment 24 to the Coastal Migratory Pelagics FMP includes actions to consider changes in the recreational and commercial allocation for coastal migratory pelagic stocks with current sector allocations. Joint Amendment 26 to the Coastal Migratory Pelagics FMP will include actions to separate the commercial permits for king and Spanish mackerel into designated permits for each region.

Scoping via webinar: The Generic Accountability Measure and Dolphin Allocation Amendment would adjust Accountability Measures for species in the snapper grouper management complex and golden crab. The amendment also addresses allocations for dolphin (mahi mahi). Information on how to register for the webinar will be posted on the Council's Web site at www.safmc.net.

Public Hearing and Scoping Meeting Schedule

January 21, 2014—Bay Watch Resort & Conference Center, 2701 S. Ocean Boulevard, North Myrtle Beach, SC 29582; Phone: 843-272-4600.

January 22, 2014—DoubleTree by Hilton Atlantic Beach Oceanfront, 2717 West Fort Macon Road, Atlantic Beach, NC 28512; Phone: 252-240-1155.

January 27, 2014—Key West Marriott Beachside, 3841 N. Roosevelt Boulevard, Key West, FL 33040; Phone: 305-296-8100.

January 28, 2014—DoubleTree by Hilton Cocoa Beach Oceanfront, 2080 N. Atlantic Avenue, Cocoa Beach, FL 32931; Phone: 321-783-9222.

January 29, 2014—Wyndham Jacksonville Riverwalk, 1515 Prudential Drive, Jacksonville, FL 32207; Phone: 904-396-5100.

January 30, 2014—Mighty Eighth Air Force Museum, 175 Bourne Avenue, Pooler, GA 31322 Phone: 912-743-8888.

February 3, 2014—Public scoping via webinar for the Generic Accountability Measure and Dolphin Allocation Amendment, beginning at 6 p.m.

Special Accommodations

These meetings are physically accessible to people with disabilities. Requests for sign language interpretation or other auxiliary aids should be directed to the Council office (see ADDRESSES) 3 days prior to the start of each meeting.

Dated: December 26, 2013.
Tracey L. Thompson,
Acting Deputy Director, Office of Sustainable Fisheries, National Marine Fisheries Service.

[FR Doc. 2013-31309 Filed 12-30-13; 8:45 am]

BILLING CODE 3510-22-P